DEPARTMENT OF LABOR

Employment and Training Administration

[TA-W-56,536, TA-W-56,536A, and TA-W-56,536B]

Butler Manufacturing Company, Subsidary of Bluescope Steel, Ltd, Buildings Division, Wall and Roof Panels Production, Trim and Componenets Production and Secondaries Production, Galesburg, IL; Negative Determination on Reconsideration

On April 6, 2005, the Department issued an Affirmative Determination Regarding Application for Reconsideration for the workers and former workers of the subject firm. The notice of determination was published on April 25, 2005 in the Federal Register (70 FR 21247). Workers of the subject firm produce pre-engineered metal building system parts, including wall and roof panels, trim and components, and secondaries (non-structural parts).

The Department initially denied Trade Adjustment Assistance (TAA) to workers of Butler Manufacturing Company, Subsidiary of Bluescope Steel, LTD, Building Division, Wall and Roof Panels Production, Trim and Components Production, and Secondaries Production, Galesburg, Illinois, because neither the shift of production or the “contributed importantly” group eligibility requirements of the Trade Act of 1974, as amended, were met.

The petitioners requesting reconsideration questioned the Department's determination that criterion (a)(2)(A)(I.B.) was not met. The Department concurs and corrects that finding to read that criterion (a)(2)(A)(I.C.) was not met. Criterion (a)(2)(A)(I.C.) requires that increased imports of articles like or directly competitive with articles produced by such firm or subdivision have contributed importantly to such workers' separation or threat of separation and to the decline in sales or production of such firm or subdivision.

In response to the petitioners' allegation that workers are not separately identifiable by product line, the Department contacted company officials and petitioners to address the issue. The determination that the workers are separately identifiable by product line was based on information provided by the subject company during the initial investigation. Based on information provided during the reconsideration investigation, the Department finds that workers are interchangeable and are not separately identifiable by production line.

The initial investigation also revealed that during the investigation period of 2003 through 2004, the subject company did not import products like or directly competitive with wall and roof panels, trim and components, or secondaries, nor did it shift production of these articles abroad.

A survey of the subject company's major declining customers conducted during the initial investigation revealed no imports of products like or directly competitive with those produced by the subject company during the investigatory period.

In the request for reconsideration, the petitioners also allege that the subject company will open foreign manufacturing facilities which would incorporate a Butler manufacturing facility for pre-engineered buildings: three facilities in India by May-June 2005, and two facilities in China by mid-2006.

While the alleged shifts of production fall outside the scope of the investigation, the Department contacted the subject company and the workers to address the petitioners' allegations.

A careful review of the information obtained from the subject company and the workers during the reconsideration investigation confirmed that during 2003 and 2004, the subject firm did not shift either wall and roof panels, trim and components, or secondaries production abroad, and revealed that beginning in 2005, production of these articles is shifting to affiliated production facilities in Tennessee, Texas, and North Carolina.

In order for the Department to issue a certification of eligibility to apply for ATAA, the worker group must be certified eligible to apply for trade adjustment assistance (TAA). Since the workers are denied eligibility to apply for TAA, the workers cannot be certified eligible for ATAA.

Conclusion

After reconsideration, I affirm the original notice of negative determination of eligibility to apply for worker adjustment assistance and alternative trade adjustment assistance for workers and former workers of Butler Manufacturing Company, Subsidiary of Bluescope Steel, LTD, Building Division, Wall and Roof Panels Production, Trim and Components Production, and Secondaries Production, Galesburg, Illinois.

Signed at Washington, DC, this 11th day of May 2005.
Linda G. Poole,
Certifying Officer, Division of Trade Adjustment Assistance.

[FR Doc. E5-2646 Filed 5-24-05; 8:45 am]

BILLING CODE 4510-30-P